DEPARTMENT OF ENERGY

Federal Energy Regulatory Commission

[Docket Nos. CP24-70-000, CP16-454-000]

Rio Grande LNG, LLC; Rio Grande LNG Train 4, LLC; Rio Grande LNG Train 5, LLC;

Notice of Comment Period Extension

On February 27, 2024, the Federal Energy Regulatory Commission (Commission) issued a Notice of Application and Establishing Intervention Deadline regarding the applications filed by Rio Grande LNG, LLC (RGLNG), Rio Grande LNG Train 4, LLC (RGLNG 4), and Rio Grande LNG Train 5, LLC (RGLNG 5) (collectively, RGLNG Entities) seeking authorization to transfer part of the ownership of RGLNG's NGA section 3 authorization ¹ for the Rio Grande LNG Terminal located in Cameron County, Texas. The February 27 Notice set a due date for comments and interventions of March 8, 2024. By this notice the due date for comments and interventions is extended to March 21, 2024.

¹ Rio Grande LNG, LLC, 169 FERC ¶ 61,131 (2019) (Authorization), reh'g denied, 170 FERC ¶ 61,046 (2020) (Order on Rehearing).

As stated in the February 27 Notice, any person wishing to comment on the RGLNG Entities' request for transfer of ownership of Train 4 and Train 5 to RGLNG 4 and RGLNG 5 respectively may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at 202-502-6652 (toll free at 1-866-208-3676) or email at ferconlinesupport@ferc.gov, or the Public Reference Room at (202) 502-8371, TTY (202) 502-8659. Email the Public Reference Room at public.referenceroom@ferc.gov.

The Commission strongly encourages electronic filings of comments, protests and interventions in lieu of paper using the “eFile” link at http://www.ferc.gov. Persons unable to file electronically may mail similar pleadings to the Federal Energy Regulatory Commission, Office of the Secretary, 888 First Street NE, Washington, DC 20426. Hand delivered submissions in docketed proceedings should be delivered to Federal Energy Regulatory Commission, Office of the Secretary, 12225 Wilkins Avenue, Rockville, Maryland 20852.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Intervention Deadline: 5:00 p.m. Eastern Time on March 21, 2024.

Dated: March 13, 2024.
Debbie-Anne A. Reese,
Acting Secretary.

[FR Doc. 2024-05790 Filed 3-18-24; 8:45 am]

BILLING CODE 6717-01-P